ENVIRONMENTAL PROTECTION AGENCY

40 CFR Part 52

[EPA-R06-OAR-2009-0594; FRL-9909-55-Region 6]

Approval and Promulgation of Implementation Plans; States of Arkansas and Louisiana; Clean Air Interstate Rule State Implementation Plan Revisions

AGENCY: Environmental Protection Agency (EPA).

ACTION: Proposed rule.

SUMMARY: The Environmental Protection Agency (EPA) is proposing to approve revisions submitted to the applicable State Implementation Plans (SIPs) addressing the requirements of EPA's Clean Air Interstate Rule (CAIR) for Arkansas and Louisiana. EPA is proposing to approve revisions to the CAIR NOX Ozone Season allocation methodology adopted on December 5, 2008, by the Arkansas Pollution Control and Ecology Commission and submitted as revisions to the Arkansas SIP on September 16, 2009. EPA is proposing to approve revisions to the CAIR NOX Annual and Ozone Season Abbreviated SIP for the annual and ozone season NOX allocation methodologies and the CAIR SO2 SIP adopted on June 20, 2008 by the State of Louisiana and submitted as revisions to the Louisiana SIP on July 1, 2009. EPA has evaluated the CAIR SIP revisions for Arkansas and Louisiana and made the preliminary determination that these revisions are consistent with the requirements of CAIR and the Clean Air Act. Therefore we are proposing to approve the revisions to the Arkansas and Louisiana SIPs under section 110 of the Act.

DATES: Written comments should be received on or before May 19, 2014.

ADDRESSES: Comments may be mailed to Ms. Adina Wiley, Air Permits Section (6PD-R), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Ms. Adina Wiley (6PD-R), telephone (214) 665-2115, email address wiley.adina@epa.gov.

SUPPLEMENTARY INFORMATION: In the final rules section of this Federal Register, EPA is approving the State's SIP submittal as a direct rule without prior proposal because the Agency views this as noncontroversial submittal and anticipates no adverse comments. A detailed rationale for the approval is set forth in the direct final rule. If no adverse comments are received in response to this action no further activity is contemplated. If EPA receives adverse comments, the direct final rule will be withdrawn and all public comments received will be addressed in a subsequent final rule based on this proposed rule. EPA will not institute a second comment period. Any parties interested in commenting on this action should do so at this time.

For additional information, see the direct final rule which is located in the rules section of this Federal Register.

Dated: April 2, 2014.
Samuel Coleman,
Acting Regional Administrator, Region 6.

[FR Doc. 2014-08646 Filed 4-16-14; 8:45 am]

BILLING CODE 6560-50-P